DEPARTMENT OF JUSTICE

Notice of Lodging of Consent Decree Under the Clean Air Act

Under 28 CFR 50.7, notice is hereby given that on April 19, 2005, a proposed consent decree in United States v. Saint-Gobain Containers, Inc., Case No. 1:05-CV-00516-REC-SMS, was lodged with the United States District Court for the Eastern District of California.

In this action, the United States sought injunctive relief and civil penalties under Section 113 of the Clean Air Act (“CAA”) against Saint Gobain Containers, Inc. (“SGCI”) at its container glass manufacturing facility in Madera, California, for failure to apply best available control technology to control oxides of nitrogen (“NOX”) emissions when it modified a furnace at its facility, failure to install a continuous emissions monitoring system, failure to source test its furnaces, and improper compliance certifications. The consent decree requires SGCI to: (1) Install a new oxygen-fuel furnace and associated control equipment to reduce NOX, sulfur dioxide (“SOX”), and particulate emissions, (2) implement a supplemental environmental project to reduce SOX and particulate emissions from an existing furnace and to donate emission reduction credits, and (3) pay a civil penalty of $929,000.

The Department of Justice will receive for a period of thirty (30) days from the date of this publication comments relating to the consent decree. Comments should be addressed to the Assistant Attorney General, Environment and Natural Resources Division, P.O. Box 7611, U.S. Department of Justice, Washington, DC 20044-7611, with a copy to Robert Mullaney, U.S. Department of Justice, 301 Howard Street, Suite 1050, San Francisco, CA 94105, and should refer to United States v. Saint-Gobain Containers, Inc., D.J. Ref. #90-5-2-1-06982.

The consent decree may be examined at the Office of the United States Attorney, 1130 “O” Street, Room 3654, Fresno, California, and at U.S. EPA Region 9, Office of Regional Counsel, 75 Hawthorne Street, San Francisco, California. During the public comment period, the consent decree may also be examined on the following Department of Justice Web site: http://www.usdoj.gov/enrd/open.html. A copy of the consent decree may also be obtained by mail from the Consent Decree Library, P.O. Box 7611, U.S. Department of Justice, Washington, DC 20044-7611, or by faxing or e-mailing a request to Tonia Fleetwood (tonia.fleetwood@usdoj.gov), fax no. (202) 514-0097, phone confirmation number (202) 514-1547. In requesting a copy from the Consent Decree Library, please enclose a check in the amount of $12 (25 cents per page reproduction cost) payable to the U.S. Treasury.

Ellen M. Mahan,
Assistant Chief, Environmental Enforcement Section, Environment and Natural Resources Division.

[FR Doc. 05-8475 Filed 4-27-05; 8:45 am]

BILLING CODE 4410-15-M